DEPARTMENT OF TRANSPORTATION

Federal Aviation Administration

14 CFR Part 39

[Docket No. FAA-2025-0020; Project Identifier MCAI-2024-00604-R; Amendment 39-23031; AD 2025-09-10]

RIN 2120-AA64

Airworthiness Directives; Leonardo S.p.A. Helicopters

AGENCY: Federal Aviation Administration (FAA), DOT.

ACTION: Final rule.

SUMMARY: The FAA is adopting a new airworthiness directive (AD) for certain Leonardo S.p.A. Model A109E, A109S, and AW109SP helicopters. This AD was prompted by reports of incorrect installation of the motor (MTR) cables and the bonding braids connected to the engine fire extinguisher bottles. This AD requires inspecting the cables and bonding braids installation and, depending on the results, accomplishing corrective action, as specified in a European Union Aviation Safety Agency (EASA) AD, which is incorporated by reference. The FAA is issuing this AD to address the unsafe condition on these products.

DATES: This AD is effective June 16, 2025.

The Director of the Federal Register approved the incorporation by reference of a certain publication listed in this AD as of June 16, 2025.

ADDRESSES:

AD Docket: You may examine the AD docket at regulations.gov under Docket No. FAA-2025-0020; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0020.

FOR FURTHER INFORMATION CONTACT: Peter Schmitt, Aviation Safety Engineer, FAA, 1600 Stewart Avenue, Suite 410, Westbury, NY 11590; phone: (425) 394-2768; email: peter.a.schmitt@faa.gov.

SUPPLEMENTARY INFORMATION:

Background

The FAA issued a notice of proposed rulemaking (NPRM) to amend 14 CFR part 39 by adding an AD that would apply to certain serial-numbered Leonardo S.p.A. Model A109E, A109S, and AW109SP helicopters. The NPRM was published in the Federal Register on February 5, 2025 (90 FR 9011). The NPRM was prompted by AD 2024-0193, dated October 11, 2024, issued by EASA, which is the Technical Agent for the Member States of the European Union (EASA AD 2024-0193) (also referred to as “the MCAI”). The MCAI states that reports were received of incorrect installation of the MTR cables and the bonding braids connected to the engine fire extinguisher bottles. This condition, if not detected and corrected, could lead to reduced performance of the engine fire extinguishing system during an engine fire and consequent loss of control of the helicopter.

In the NPRM, the FAA proposed to require inspecting the cables and bonding braids installation and, depending on the results, disconnecting and properly reinstalling the affected MTR cables and bonding braids. The FAA is issuing this AD to address the unsafe condition on these products.

You may examine the MCAI in the AD docket at regulations.gov under Docket No. FAA-2025-0020.

Comments

The FAA received no comments on the NPRM or on the determination of the costs.

Changes to the NPRM

The FAA has revised the applicability for this AD to remove serial-numbered helicopters that are not eligible for an FAA type certificate. Instead, paragraph (c) of this AD, “Applicability,” lists the applicable helicopters by model and serial number.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0193, which specifies procedures for inspecting the left-hand and right-hand side MTR cables and bonding braids for correct installation and, depending on the findings, accomplishing corrective action (disconnecting and properly reinstalling the affected MTR cable(s) and bonding braid(s)). This material is reasonably available because the interested parties have access to it through their normal course of business or by the means identified in the ADDRESSES section.

Differences Between This AD and the MCAI

EASA AD 2024-0193 applies to Model A109LUH helicopters; however, this AD does not because that model does not have an FAA type certificate.

Costs of Compliance

The FAA estimates that this AD affects 101 helicopters of U.S. registry. Labor rates are estimated at $85 per hour. Based on these numbers, the FAA estimates the following costs to comply with this AD.

Inspecting the engine fire extinguisher bottle electrical connections takes 1 work-hour for an estimated cost of $85 per helicopter and $8,585 for the U.S. fleet.

Disconnecting and reinstalling the MTR cable(s) and bonding braid(s) takes up to 1 work-hour for an estimated cost of up to $85 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-09-10 Leonardo S.p.A.: Amendment 39-23031; Docket No. FAA-2025-0020; Project Identifier MCAI-2024-00604-R.

(a) Effective Date

This airworthiness directive (AD) is effective June 16, 2025.

(b) Affected ADs

None.

(c) Applicability

This AD applies to Leonardo S.p.A. helicopters identified in paragraphs (c)(1) through (4) of this AD, certificated in any category.

(1) Model A109E helicopters, all serial numbers (S/N).

(2) Model A109S helicopters without Trekker Kit part number (P/N) 109G0000F01 installed, all S/Ns.

(3) Model A109S helicopters with Trekker Kit P/N 109G0000F01installed, S/N 22202, 22088, 22701 through 22741 inclusive, 22743 through 22746 inclusive, and 22748.

(4) Model AW109SP helicopters, S/N 22201, 22203, 22214 through 22362 inclusive, 22364 through 22460 inclusive, and 22462 through 22464 inclusive.

(d) Subject

Joint Aircraft System Component (JASC) Code 2620, Extinguishing System.

(e) Unsafe Condition

This AD was prompted by reports of incorrect installation of the motor (MTR) cables and the bonding braids connected to the engine fire extinguisher bottles. The FAA is issuing this AD to detect and correct incorrect installation of the MTR cables and the bonding braids to the engine fire extinguisher bottles, which could lead to reduced performance of the engine fire extinguishing system during an engine fire and consequent loss of control of the helicopter.

(f) Compliance

Comply with this AD within the compliance times specified, unless already done.

(g) Requirements

Except as specified in paragraphs (h) and (i) of this AD: Comply with all required actions and compliance times specified in, and in accordance with, European Union Aviation Safety Agency AD 2024-0193, dated October 11, 2024 (EASA AD 2024-0193).

(h) Exceptions to EASA AD 2024-0193

(1) Where EASA AD 2024-0193 requires compliance in terms of flight hours, this AD requires using hours time-in-service.

(2) Where EASA AD 2024-0193 refers to its effective date, this AD requires using the effective date of this AD.

(3) Where paragraph (2) of EASA AD 2024-0193 states “any discrepancy,” this AD requires replacing that text with “an improper installation.”

(4) This AD does not adopt the “Remarks” section of EASA AD 2024-0193.

(i) No Reporting Requirement

Although the material referenced in EASA AD 2024-0193 specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Related Information

For more information about this AD, contact Peter Schmitt, Aviation Safety Engineer, FAA, 1600 Stewart Avenue, Suite 410, Westbury, NY 11590; phone: (206) 231-3377; email: peter.a.schmitt@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0193, dated October 11, 2024.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 7, 2025.
Steven W. Thompson,
Acting Deputy Director, Compliance & Airworthiness Division, Aircraft Certification Service.

[FR Doc. 2025-08283 Filed 5-9-25; 8:45 am]

BILLING CODE 4910-13-P